DEPARTMENT OF COMMERCE

Foreign-Trade Zones Board

Foreign-Trade Zone 167—Green Bay, WI; Site Renumbering Notice

Foreign-Trade Zone 167 was approved by the FTZ Board on August 23, 1990 (Board Order 483, 55 FR 35916, 9/4/1990), and expanded on August 4, 2005 (Board Order 1407, 70 FR 48537-48538, 8/18/2005).

FTZ 167 currently consists of two “sites” totaling 4,001 acres in the Green Bay area. The current update does not alter the physical boundaries that have previously been approved, but instead involves an administrative renumbering that separates certain non-contiguous sites for record-keeping purposes.

Under this revision, the site list for FTZ 167 will be as follows: Site 1 (60 acres)—located at South Point Road and Airport Road adjacent to Austin Straubel Airport in Ashwaubenon, Brown County; Site 2 (289 acres)—Oshkosh Southwest Development Park located west of Oakwood Road, north of State Highway 91, east of Clairville Road and south of 20th Avenue in the City of Oshkosh and Town of Algoma, Winnebago County; Site 3 (1,654 acres)—Austin Straubel Airport located in Ashwaubenon and Hobart, Brown County; Site 4 (650 acres)—Ashwaubenon Industrial Park located at Adam Drive and Ridge Road in Ashwaubenon and Hobart, Brown County; Site 5 (20 acres)—Seven Generations Corporation (Oneida Tribe Economic Development) facility located west of Packerland Drive, north of Partnership Drive, east of Commodity Lane and south of Glory Road in Ashwaubenon, Brown County; Site 6 (162 acres)—Oneida Industrial Park located at the intersection of East Adam Drive and Short Road in Ashwaubenon, Brown County; Site 7 (10 acres)—the SJ Spanbaurer (Fox Valley Technical College) facility bounded by West 20th Avenue to the north, Oregon Street to the east, West 23rd Avenue to the south and Minnesota Street to the west, in the City of Oshkosh, Winnebago County; and, Site 8 (1,318 acres)—Wittman Regional Airport located in the City of Oshkosh and the Townships of Algoma and Nekimi, Winnebago County.

For further information, contact Elizabeth Whiteman at Elizabeth.Whiteman@trade.gov or (202) 482-0473.

Dated: August 17, 2010.
Andrew McGilvray,
Executive Secretary.

[FR Doc. 2010-20899 Filed 8-20-10; 8:45 am]

BILLING CODE P